POSTAL SERVICE

Temporary Emergency Committee of the Board of Governors; Sunshine Act Meeting

DATES AND TIMES: Monday, March 21, 2016, at 4:00 p.m.

PLACE: via Teleconference.

STATUS: Closed.

MATTERS TO BE CONSIDERED:

Monday, March 21 2016, at 4:00 p.m.

1. Strategic Issues.

2. Financial Matters.

3. Pricing/Product Development Matters.

4. Personnel Matters and Compensation Issues.

5. Executive Session—Discussion of prior agenda items and Board governance.

GENERAL COUNSEL CERTIFICATION: The General Counsel of the United States Postal Service has certified that the meeting may be closed under the Government in the Sunshine Act.

CONTACT PERSON FOR MORE INFORMATION: Requests for information about the meeting should be addressed to the Secretary of the Board, Julie S. Moore, at 202-268-4800.

Julie S. Moore.
Secretary, Board of Governors.

[FR Doc. 2016-04904 Filed 3-1-16; 4:15 pm]

BILLING CODE 7710-12-P